ENVIRONMENTAL PROTECTION AGENCY

[FRL-8685-4]

Science Advisory Board Staff Office; Clean Air Scientific Advisory Committee (CASAC); Ozone Review Panel Request for Nominations

AGENCY: Environmental Protection Agency (EPA).

ACTION: Notice.

SUMMARY: The U.S. Environmental Protection Agency (EPA or Agency) Science Advisory Board (SAB) Staff Office is announcing the formation of the Clean Air Scientific Advisory Committee (CASAC) Review Panel for ambient ozone. The SAB Staff Office is soliciting public nominations for this Panel.

DATES: New nominations should be submitted by July 17, 2008.

FOR FURTHER INFORMATION CONTACT: Any member of the public wishing further information regarding this Request for Nominations may contact Mr. Fred Butterfield, CASAC Designated Federal Officer (DFO), EPA Science Advisory Board (1400F), U.S. Environmental Protection Agency, 1200 Pennsylvania Avenue, NW., Washington, DC 20460; via telephone/voice mail: 202-343-9994; fax: 202-233-0643; or e-mail at butterfield.fred@epa.gov. General information concerning the CASAC can be found on the EPA Web site at http://www.epa.gov/casac.

SUPPLEMENTARY INFORMATION:

Background: The Clean Air Scientific Advisory Committee (CASAC) was established under section 109(d)(2) of the Clean Air Act (CAA or Act) (42 U.S.C. 7409) as an independent scientific advisory committee. CASAC provides advice, information and recommendations on the scientific and technical aspects of air quality criteria and National Ambient Air Quality Standards (NAAQS) under sections 108 and 109 of the Act. The CASAC is a Federal advisory committee chartered under the Federal Advisory Committee Act (FACA), as amended, 5 U.S.C., App.

Section 109(d)(1) of the Clean Air Act (CAA) requires that EPA carry out a periodic review and revision, as appropriate, of the air quality criteria and the NAAQS for the six “criteria” air pollutants, including ambient ozone. With the release of the Final Rule for Ozone NAAQS on March 12, 2008, and its subsequent publication in the Federal Register (73 FR 16436) on March 27, 2008, the Agency has completed its most recent review of the NAAQS for ozone, pursuant to sections 108 and 109 of the Act. The CASAC's Ozone Review Panel for that three-year review was formed in April 2005. The Ozone Panel last met on March 28, 2008, to offer its additional, unsolicited advice to the Agency on the Final Rule for the Ozone NAAQS. The CASAC's letter to the EPA Administrator from that teleconference meeting (EPA-CASAC-08-009, dated April 7, 2008) is posted on the CASAC's Web Site at http://www.epa.gov/casac.

This Federal Register notice solicitation is seeking nominations for subject matter experts to serve on the CASAC Ozone Review Panel for the next review cycle of the Ozone NAAQS that begins in fiscal year (FY) 2009. The Panel will be charged with reviewing EPA's science and policy assessments that form the basis for updating the NAAQS for ozone, and will comply with the provisions of FACA and all appropriate SAB Staff Office procedural policies.

Nominator's Assessment of Expertise: The SAB Staff Office requests nominees for the CASAC Ozone Review Panel who are nationally-recognized experts in one or more of the following disciplines: (a) Atmospheric Sciences. Expertise in: (1) Physical and chemical properties of ozone and other photochemical oxidants and their precursor substances; (2) atmospheric processes involved in the formation, transport, and degradation of ozone and other photochemical oxidants in the atmosphere, including interaction with global climate and stratospheric ozone; (3) evaluation of natural and anthropogenic sources and emissions of precursors of tropospheric ozone and other photochemical oxidants; (4) monitoring and measurement of ozone and other photochemical oxidants; and (5) and spatial and temporal trends in atmospheric concentrations of ozone and other photochemical oxidants.

(b) Exposure Modeling and Assessment. Expertise in measuring human population exposure to ozone and/or in modeling human exposure to ambient and indoor pollutants. (c) Dosimetry. Expertise in measuring and/or estimating tissue doses of reactive gases in human and animal populations. (d) Toxicology. Expertise in evaluation of experimental toxicological effects and mechanisms of action of ozone and/or other photochemical oxidants in animal studies. (e) Controlled Human Exposure. Expertise in evaluation of controlled human exposure studies and/or ex vivo investigations of the effects of ozone and/or other photochemical oxidants on healthy and compromised human adults and children. (f) Epidemiology. Expertise in evaluation of the effects of exposures to ambient ozone and/or other major ambient air co-pollutants on human population groups. (g) Risk Assessment and Biostatistics. Expertise in quantitative human health risk assessment and uncertainty analysis. (h) Ecological Effects. Expertise in evaluation of the effects of ozone on vegetation, terrestrial species and populations, and ecological risk assessment. (i) Ecological Resource Valuation. Expertise in valuation and benefits assessment approaches and models of ecological resource and other welfare effects.

Process and Deadline for Submitting Nominations: Any interested person or organization may nominate qualified individuals to add expertise to the CASAC Ozone Review Panel in the areas of expertise described above. Nominations should be submitted in electronic format through the CASAC Web site at http://www.epa.gov/casac through the link for “Public Nomination of Experts” on the blue navigation bar. Please follow the instructions for submitting nominations carefully. To be considered, nominations should include all of the information requested. Anyone unable to submit nominations using the electronic form and who has any questions concerning the nomination process may contact Mr. Fred Butterfield, CASAC DFO, as indicated above in this notice. Nominations should be submitted in time to arrive no later than July 17, 2008.

To be considered, all nominations should include: a current curriculum vitae (C.V.) which provides the nominee's background, qualifications, research expertise and relevant publications for service on the Panel; and a brief biographical sketch (“biosketch”). The biosketch should be no longer than one page and should contain the following information for the nominee: current position, educational background, areas of expertise and research activities related to the panel activities, service on advisory committees not supported by the SAB Staff Office, and involvement professional societies.

The EPA SAB Staff Office will post the biosketches of qualified nominees for public comments on the CASAC Web site at http://www.epa.gov/casac and will include, for each candidate, the nominee's name and their biosketch. Public comments on this “Short List” of candidates will be accepted for a minimum of 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In establishing the final CASAC Ozone Review Panel, the SAB Staff Office will consider public comments on the “Short List” of candidates, information provided by the candidates themselves, and background information independently gathered by the SAB Staff Office. Specific criteria to be used for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of, and balance among, scientific expertise, viewpoints, etc.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following SAB Web site at http://yosemite.epa.gov/sab/sabproduct.nsf/WebSABSO/Form3110-48/$File/epaform3110-48.pdf.

The approved policy under which the EPA SAB Office selects subcommittees and review panels is described on the “Overview of the Panel Formation Process” page on the SAB Web site at http://yosemite.epa.gov/sab/sabproduct.nsf/WebSABSO/OverviewPanelForm?OpenDocument.

Dated: June 19, 2008.
Anthony F. Maciorowski,
Deputy Director, EPA Science Advisory Board Staff Office.

[FR Doc. E8-14511 Filed 6-25-08; 8:45 am]

BILLING CODE 6560-50-P